DEPARTMENT OF HOMELAND SECURITY

Coast Guard

33 CFR Part 117

[Docket No. USCG-2011-1154]

Drawbridge Operation Regulation; Islais Creek, San Francisco, CA

AGENCY: Coast Guard, DHS.

ACTION: Notice of temporary deviation from regulations.

SUMMARY: The Commander, Eleventh Coast Guard District, has issued a temporary deviation from the regulation governing the operation of the Third Street Drawbridge across Islais Creek, mile 0.4, at San Francisco, CA. The deviation is necessary to allow the City of San Francisco to make emergency electrical repairs on the bridge. This deviation allows the bridge to be secured in the closed-to-navigation position during the deviation period.

DATES: This deviation is effective from 8 a.m. on December 18, 2011 to 6 p.m. on January 31, 2012.

ADDRESSES: Documents mentioned in this preamble as being available in the docket are part of the docket USCG-2011-1154 and are available online by going to http://www.regulations.gov, inserting USCG-2011-1154 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email David H. Sulouff, Chief, Bridge Section, Eleventh Coast Guard District; telephone (510) 437-3516, email David.H.Sulouff@uscg.mil. If you have questions on viewing the docket, call Renee V. Wright, Program Manager, Docket Operations, telephone (202) 366-9826.

SUPPLEMENTARY INFORMATION: The City of San Francisco requested a temporary change to the operation of the Third Street Drawbridge, mile 0.4, over Islais Creek, at San Francisco, CA. The drawbridge navigation span provides a vertical clearance of 4 feet above Mean High Water in the closed-to-navigation position. As required by 33 CFR 117.163(b), the draw shall open on signal if at least 72 hours advance notice is given to the San Francisco Department of Public Works. Navigation on the waterway is commercial and recreational.

The Third Street Drawbridge will be secured in the closed-to-navigation position from 8 a.m. on December 18, 2011 to 6 p.m. on January 31, 2012, to allow the City of San Francisco to complete emergency electrical repairs. This temporary deviation has been coordinated with the waterway users. No objections to the proposed temporary deviation were received.

Vessels that can transit the bridge, while in the closed-to-navigation position, may continue to do so at any time.

In accordance with 33 CFR 117.35(e), the drawbridge must return to its regular operating schedule immediately at the end of the designated time period. This deviation from the operating regulations is authorized under 33 CFR 117.35.

Dated: December 18, 2011.
D.H. Sulouff,
Bridge Section Chief, Eleventh Coast Guard District.

[FR Doc. 2012-171 Filed 1-9-12; 8:45 am]

BILLING CODE 4910-15-P